DEPARTMENT OF COMMERCE

Patent and Trademark Office

Patent Examiner Employment Application—Job Application Rating System (JARS) (Formerly Electronic Application for Patent Examiners—Job Application Rating System (JARS))

ACTION: Proposed collection; comment request.

SUMMARY: The United States Patent and Trademark Office (USPTO), as part of its continuing effort to reduce paperwork and respondent burden, invites the general public and other Federal agencies to comment on the submission of a extension of a currently approved collection, as required by the Paperwork Reduction Act of 1995, Public Law 104-13 (44 U.S.C. 3506(c)(2)(A)).

DATES: Written comments must be submitted on or before July 5, 2005.

ADDRESSES: You may submit comments by any of the following methods:

• E-mail: Susan.Brown@uspto.gov. Include “0651-0042 comment” in the subject line of the message.

• Fax: 571-273-0221; marked to the attention of Susan Brown.

• Mail: Susan K. Brown, Records Officer, Office of the Chief Information Officer, Office of Data Architecture and Services, Data Administration Division, U.S. Patent and Trademark Office, P.O. Box 1450, Alexandria, VA 22313-1450.

FOR FURTHER INFORMATION CONTACT: Requests for additional information should be directed to the attention of Theresa Hall, Supervisor, Patent Branch, Office of Human Resources, U.S. Patent and Trademark Office (USPTO), Alexandria, VA 22314; by telephone at 571-272-6144; or by e-mail to Theresa.Hall@uspto.gov.

SUPPLEMENTARY INFORMATION:

I. Abstract

The Job Application Rating System (JARS) is a system by which the USPTO can rapidly review applications for employment of entry-level patent examiners. The Office of Human Resources (OHR), armed with a recommendation from a Supervisory Patent Examiner (SPE) can, in turn, rapidly make an offer of employment and support hiring actions with necessary administrative action. Over the past three fiscal years, JARS has enabled the Patent Corps to hire more than 1,600 entry-level patent examiners.

Since the inception of JARS, upgrades have increased the flexibility of the system and the speed and ease with which the Office of Human Resources can support hiring recommendations. Specifically, JARS allows applicants to update personal information without submitting a new application. Additional form letters and reports are available, date tracking of previous employment is significantly improved; and status tracking improvements enable users to tell who has previously updated the record and when. Future enhancements will allow JARS to collect demographic data, upgrade the Windows server from 2000 to 2003, migrate JARS to a J2EE environment, perform pre-employment testing, provide integration with Recruitment One-Stop (e-Government Initiative), and allow for category ranking. The above upgrades to JARS will begin in FY 05 and extend to FY 07. These enhancements and upgrades will increase and improve the capabilities of the JARS system.

In the current employment environment, information technology professionals and engineering graduates are in great demand. The USPTO is in direct competition with private industry for the same caliber of candidates with the requisite knowledge and skills to perform patent examination work. Consequently, it is imperative that every available technology be employed if the USPTO is to remain competitive, meet the hiring goal, and fulfill the agency's congressional commitment to reduce the pendency rate for the examination of patent applications. The information supplied to the USPTO by an applicant seeking a patent examiner position with the USPTO assists the Human Resources Specialists and hiring managers in determining whether an applicant possesses the basic qualification requirements for the patent examiner position.

JARS provides the USPTO a user-friendly on-line employment application process for applicants and enables the USPTO to process hiring actions in an efficient and timely manner. The on-line application provides an electronic real-time candidate inventory that allows the USPTO to review applications from potential applicants almost instantaneously. Given the immediate hiring need of the Patent Examining Corps, time consumed in the mail distribution system or paper review of applications delays the decision-making process by several weeks. The JARS system results in increased speed and accuracy in the employment process, in addition to streamlining labor and reducing costs.

The use of the JARS on-line application fully complies with 5 U.S.C. 2301, which requires adequate public notice to assure open competition by guaranteeing that necessary employment information will be accessible and available to the public on inquiry. The JARS on-line application is fully compliant with Section 508 (29 U.S.C. 794(d)), which requires agencies to provide disabled employees and members of the public access to information that is comparable to the access available to others.

Since the JARS on-line application is used as an alternative form of employment application, the collection and use of the information requires OMB approval as outlined in Section 5.1 of the Delegated Examining Operations Handbook. The Handbook provides guidance to agencies under a delegated examining authority by the Office of Personnel Management (OPM), under the provisions of Title 5, U.S. Code, Chapter 11, Section 1104.

II. Method of Collection

The application information is collected electronically from the applicant. The application form may be completed on-line and then transmitted to the USPTO electronically, via the Internet. For those applicants who do not have access to a personal computer, applications are available in the Personnel Office at the USPTO, or the applicant can go to the local library to complete an application.

III. Data

OMB Number: 0651-0042.

Form Number(s): PTO-2041.

Type of Review: Extension of a currently approved collection.

Affected Public: Individuals or households; farms; the Federal Government; and State, local or tribal governments.

Estimated Number of Respondents: 7,000 responses per year.

Estimated Time Per Response: The USPTO estimates that it will take the public approximately 30 minutes to complete the employment application, depending upon the situation. There is one form associated with this information collection, Form PTO-2041.

Estimated Total Annual Respondent Burden Hours: 3,500 hours per year.

Estimated Total Annual Respondent Cost Burden: $110,250. Using the median hourly rate for scientists and engineers of $31.50, according to the Bureau of Labor Statistics, the USPTO estimates $110,250 per year for salary costs associated with respondents. This is a fully loaded rate.

Item | Estimated time for response | Estimated annual responses | Estimated annual burden hours
Patent Examiner Employment Application | 30 minutes | 7,000 | 3,500
Total |  | 7,000 | 3,500

Estimated Total Annual (Non-hour) Respondent Cost Burden: $4,200. There are no capital start-up, maintenance, or record keeping costs, as well as no filing fees associated with this information collection. However, this collection does have annual (non-hour) costs in the form of postage costs.

Not every applicant can supply all of the required information electronically. For example, in order to apply for a patent examiner position, the applicant must possess a minimum of a bachelor degree. A resume and an official college or university transcript must be submitted separately with this application and mailed to the USPTO. The college or university transcript must be an official/original copy and include the university stamp or seal. When responding to the veteran's preference claim field, additional information may be required. The applicant may be required to submit Form DD214 or SF-15, which must be completed separately and either mailed, faxed or delivered to the USPTO. The OF-306 (Declaration of Federal Employment) and the SF-85 (Security Background Information) must be printed, signed and dated, and provided to the USPTO via mail prior to reporting for duty. These additional required documents may be submitted to the USPTO by first-class mail through the United States Postal Service. The USPTO estimates that the average first-class postage is 60 cents. Therefore, the USPTO estimates that it will receive 7,000 responses to the JARS on-line application per year, for a total cost of $4,200 (7,000 × $0.60 = $4,200) in postage fees.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: April 27, 2005.
Susan K. Brown,
Records Officer, USPTO, Office of the Chief Information Officer, Office of Data Architecture and Services, Data Administration Division.

[FR Doc. 05-8879 Filed 5-3-05; 8:45 am]

BILLING CODE 3510-16-P